DEPARTMENT OF STATE

[Public Notices: 8720]

Certification Related to the Government of Haiti Under Section 7045(D)(1) of the Department of State, Foreign Operations, and Related Programs Appropriations Act, 2014 (Div. K, Pub. L. 113-76)

Pursuant to the authority vested in the Secretary of State, including under section 7045(d)(1) of the Department of State, Foreign Operations, and Related Programs Appropriations Act, 2014 (Div. K, Pub. L. 113-76), I hereby certify that Haiti is taking steps to hold free and fair parliamentary elections and to seat a new Haitian Parliament; the Government of Haiti is respecting the independence of the judiciary; and the Government of Haiti is combating corruption and improving governance, including passage of the anticorruption law to enable prosecution of corrupt officials and implementing financial transparency and accountability requirements for government institutions.

This Certification shall be published in the Federal Register, and copies shall be transmitted to the appropriate committees of Congress.

John F. Kerry,
Secretary of State.

[FR Doc. 2014-10484 Filed 5-6-14; 8:45 am]

BILLING CODE 4710-29-P